DEPARTMENT OF DEFENSE

Office of the Secretary

[Docket ID: DOD-2010-OS-0104]

Privacy Act of 1974; System of Records

AGENCY: National Geospatial-Intelligence Agency (NGA), DoD.

ACTION: Notice to add a system of records.

SUMMARY: The National Geospatial-Intelligence Agency (NGA) proposes to add a system of records to its inventory of record systems subject to the Privacy Act of 1974 (5 U.S.C. 552a), as amended.

DATES: The changes will be effective on August 25, 2010, unless comments are received that would result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

• Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. John Eller at 703-453-3808.

SUPPLEMENTARY INFORMATION: The National Geospatial-Intelligence Agency notices for systems of records subject to the Privacy Act of 1974 (5 U.S.C. 552a), as amended, have been published in the Federal Register and are available from the NGA Information Technology (IT) Policy and Privacy Lead, Privacy Program Office, National Geospatial-Intelligence Agency (NGA), 6011 MacArthur Blvd, Bethesda, MD 20816-5003.

The proposed systems report, as required by 5 U.S.C. 552a(r) of the Privacy Act of 1974, as amended, was submitted on July 13, 2010, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: July 21, 2010.
Mitchell S. Bryman,
Alternate OSD Federal Register Liaison Officer, Department of Defense.

B1211-04

System name:

TravelNet.

System location:

National Geospatial-Intelligence Agency (NGA), 12310 Sunrise Valley Drive, Reston, VA 20191-3449.

Categories of individuals covered by the system:

NGA employees and contactors who maintain travel activities or interests outside the Continental United States (OCONUS) or maintain a relationship with a foreign contact.

Categories of records in the system:

Name, address, date of birth, Social Security Number (SSN), business phone number and e-mail address, personal phone number and e-mail address, medical clearance status, military status, employment status, passport information, foreign activities and interests, and family personal contact information.

Authority for maintenance of the system:

National Security Act of 1947, Section 102, Director of Intelligence; Executive Order 12333, United States Intelligence Activities; DoD 4500.54G, DoD Foreign Clearance Guide; DoD 5105.21-M-1, DoD Sensitive Compartmental Information Administrative Security Manual; DoD Instruction 5240.6, Counterintelligence Awareness and Briefing Program; DoD 2000.16, DoD Antiterrorism Standards; Director of Central Intelligence Directive (DCID) 1/20, Security Policy Concerning Travel and Assignment of Personnel with Access to Sensitive Compartmented Information; DCID 1/19P, Security Policy for Sensitive Compartmented Information and Security Policy Manual; and E.O. 9397 (SSN), as amended.

Purpose(s):

TravelNet manages employee and contractor travel activities, related to personal and business interests outside the Continental United States (OCONUS), and relationships with foreign contacts.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Records are maintained on electronic storage media and paper.

Retrievability:

By Social Security Number (SSN) and name.

Safeguards:

Records are maintained in a controlled facility. Physical access is restricted by the use of locks, guards, and is accessible only to authorized personnel. Access to records is limited to individuals responsible for servicing the record in performance of their official duties and who are properly screened and cleared for need-to-know. Access to computerized data is restricted by password protection, firewalls, and encryption.

Retention and disposal:

TravelNet records are destroyed or deleted six years after the user account is terminated or if the password is altered when no longer needed for investigative, or for security purposes, whichever is later. Paper records are destroyed by shredding.

System manager(s) and address:

National Geospatial-Intelligence Agency (NGA), ATTN: Branch Chief, Mission Support, MSRS P-12, 12310 Sunrise Valley Drive, Reston, VA 20191-3449.

Notification procedure:

Individuals seeking to determine whether information about themselves is contained in this system should address written inquiries to the National Geospatial-Intelligence Agency (NGA), Office of the General Counsel, Mail Stop D-10, 4600 Sangamore Road, Bethesda, MD 20816-5003.

Written requests should contain the full name of the individual, current address, and telephone number. While the requestor's Social Security Number (SSN) is not required, providing it will expedite the authentication of the requestor's identity and clearance levels.

Record access procedures:

Individuals seeking access to information about themselves contained in this system should address written inquiries to the National Geospatial-Intelligence Agency (NGA), Office of the General Counsel, Mail Stop D-10, 4600 Sangamore Road, Bethesda, MD 20816-5003.

Written requests should contain the full name of the individual, current address, and telephone number. While the requestor's Social Security Number (SSN) is not required, providing it will expedite the authentication of the requestor's identity and clearance levels.

Contesting records procedures:

NGA's rules for accessing records, and for contesting contents and appealing initial agency determinations, are published in NGA Instruction 5500.7R10; 32 CFR part 320.6; or may be obtained from the system manager.

Record source categories:

From the individual.

Exemptions claimed for the system:

None.

[FR Doc. 2010-18245 Filed 7-23-10; 8:45 am]

BILLING CODE 5001-06-P